DEPARTMENT OF TRANSPORTATION

Office of the Secretary

[Docket No. DOT-OST-2011-0129]

Proposed Information Collection Request; Notice of New Requirements and Procedures for Grant Payment Request Submission

AGENCY: Department of Transportation (DOT).

ACTION: Notice with request for comments.

SUMMARY: The DOT invites the public and other Federal agencies to comment on a proposed information collection concerning new requirements and procedures for grant payment request submission. DOT will submit the proposed information collection request to the Office of Management and Budget (OMB) for review, as required by the Paperwork Reduction Act of 1995 (PRA) (44 U.S.C. 3506(c)(2)(A)). This notice sets forth new requirements and procedures for grantees that submit and receive payments from DOT Operating Administrations (OAs).¹ DOT is updating systems that support grant payments and there will be changes to the way grantees complete and submit payment requests. Simplifying the DOT grant payment process will save both the grantee and the Federal Government time and expense that come with paper-based grant application and payment administration. Note: At this time, this requirement is not applicable to DOT grant recipients requesting payment electronically through the National Highway Traffic Safety Administration's Grant Tracking System (GTS), the Federal Highway Administration's Rapid Approval State Payment System (RASPS), or Federal Transit Administration (FTA) grant recipients requesting payment through the Electronic Clearing House Operation System (ECHO-Web).

¹ The DOT OAs are: Office of the Secretary of Transportation (OST), Federal Aviation Administration (FAA), Federal Highway Administration (FHWA), Federal Motor Carrier Safety Administration (FMCSA), Federal Railroad Administration (FRA), Federal Transit Administration (FTA), Maritime Administration (MARAD), National Highway Traffic Safety Administration (NHTSA), Office of Inspector General (OIG), Pipeline and Hazardous Materials Safety Administration (PHMSA), Research and Innovative Technology Administration (RITA), Saint Lawrence Seaway Development Corporation (SLSDC) and Surface Transportation Board (STB).

DATES: Comments must be submitted on or before January 9, 2012.

FOR FURTHER INFORMATION CONTACT: Requests for additional information should be directed to US Department of Transportation, Office of Financial Management, B-30, room W93-431, 1200 New Jersey Avenue SE., Washington DC 20590-0001, (202) 366-1306, DOTElectronicInvoicing@dot.gov.

SUPPLEMENTARY INFORMATION:

Title: Notice of Requirements and Procedures for Grant Payment Request Submission.

OMB Control Number: XXXX-XXXX.

Type of Request: New information collection.

Background: This notice sets forth requirements and procedures for grantees that receive payments from DOT OAs, with the exception of DOT grant recipients requesting payment electronically through the NHTSA's GTS, the FHWA's RASPS, or FTA grant recipients requesting payment through the ECHO-Web. The proposed procedures provide that—

• Grantees will now be required to have electronic internet access to register in the Delphi eInvoicing system.

• Grantees will be required to submit payment requests electronically and DOT OAs must process payment requests electronically.

• The identities of system users must be verified prior to receiving access to the Delphi eInvoicing system. Users must complete a user request form and provide the following information: Full name, work address, work phone number, work email address, home address and home phone number. Once completed, this form must be presented to a Notary Public for verification. Once notarized, the prospective grantee user will return the form to receive their login credentials.

• DOT Office of Financial Management officials may allow exceptions to the requirement that grantees register and submit payment requests through the Delphi eInvoicing system under limited circumstances. Recipients may apply for an exemption by submitting an electronic Waiver Request Form to the DOT Office of Financial Management. The exceptions will be considered on a case by case basis via Waiver Request Form.

Affected Public: DOT Grant Recipients.

Estimated Number of Respondents: 11,000.

Estimated Number of Responses: 11,000.

Annual Estimated Total Annual Burden Hours: 22,000 (initial registration only).

Frequency of Collection: One time.

ADDRESSES: Send comments regarding the burden estimate, including suggestions for reducing the burden, to U.S. Department of Transportation, Office of Financial Management, B-30, Room W93-431, 1200 New Jersey Avenue SE., Washington DC 20590-0001, (202) 366-1306, DOTElectronicInvoicing@dot.gov.

Comments: Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents.

Issued in Washington, DC, on November 1, 2011.
David Rivait.
Deputy Chief Financial Officer, Department of Transportation.

[FR Doc. 2011-28747 Filed 11-9-11; 8:45 am]

BILLING CODE 4910-9X-P